OFFICE OF GOVERNMENT ETHICS

5 CFR Part 2635

RIN 3209-AA50

Announcement of public meeting: Legal Expense Fund Regulation

AGENCY: Office of Government Ethics (OGE).

ACTION: Announcement of public meeting.

SUMMARY: The U.S. Office of Government Ethics (OGE) is hosting public meetings to engage in dialogue with interested members of the public regarding the development of a legal expense fund regulation. OGE will also accept additional written comments related to legal expense funds.

DATES: Written Comment Period Dates: Written comments must be received by November 5, 2019. Information on how to submit a written comment may be found in the SUPPLEMENTARY INFORMATION section of this notice.

Public Meeting Dates: The public meetings will be held on the following dates:

• October 17, 2019, from 10:00 a.m. to 12:00 p.m., Eastern time.

• October 22, 2019, from 10:00 a.m. to 12:00 p.m., Eastern time.

Information on how to register for the public meetings and registration deadlines may be found in the SUPPLEMENTARY INFORMATION section of this notice.

ADDRESSES: The two public meetings will be held at the Office of Government Ethics, 1201 New York Avenue NW, Washington, DC 20005-3917. A call-in number will be provided upon request.

FOR FURTHER INFORMATION CONTACT: Rachel McRae, Associate Counsel, General Counsel and Legal Policy Division, Office of Government Ethics, Suite 500, 1201 New York Avenue NW, Washington, DC 20005-3917; Telephone: (202) 482-9300; TTY: (800) 877-8339; FAX: (202) 482-9237.

SUPPLEMENTARY INFORMATION: The U.S. Office of Government Ethics (OGE) is hosting public meetings to obtain the views of experts and interested parties regarding the development of a legal expense fund regulation. On April 15, 2019, OGE sought stakeholder input on issues specifically related to legal expense funds through an advance notice of proposed rulemaking (ANPRM). See Notice and Request for Comments: Legal Expense Fund Regulation, 84 FR 14146 (Apr. 15, 2019). In response to this ANPRM, OGE received written comments and heard testimony at a virtual public hearing on May 22, 2019. See https://www.oge.gov/Web/oge.nsf/Resources/Rulemaking.

OGE is now inviting all interested members of the public to share ideas, provide information, and express concerns at public meetings about specific topics related to legal expense funds. These meetings will allow interested groups to hear and respond to the concerns of other affected persons and allow OGE to further develop our understanding of the views of various constituencies. The goal of these meetings is to exchange ideas rather than come to a consensus.

To facilitate discussion at the public meetings, OGE welcomes input on issues related to legal expense funds, including, but not limited to, the following topics:

• Scope of a legal expense fund regulation, including:

○ The types of legal matters to be covered by a legal expense fund regulation if the employee seeks to raise funds for legal expenses arising from those legal matters;

○ Other possible sources of legal expense payments or legal support (e.g., pro bono assistance, established legal aid providers) outside of a legal expense fund; and

○ The possibility of different rules for different types of employees.

• Structure of a legal expense fund, including:

○ Number of eligible beneficiaries for a legal expense fund; and

○ Legal structure used to establish a legal expense fund (e.g., trust, limited liability company, etc.).

An agenda, a list of attendees, and a list of topics discussed will be posted to the following website at the conclusion of the public meetings: https://www.oge.gov/Web/oge.nsf/Resources/Rulemaking. There will be no transcription at the meetings. OGE is accepting additional written comments until November 5, 2019, during which time interested parties will have an opportunity to present further comment on issues related to legal expense funds.

Registration: To ensure adequate room accomodations and to facilitate entry to the meeting space, individuals wishing to attend the public meetings must register by close of business on the following dates:

• October 10, 2019, for the meeting on October 17th.

• October 15, 2019, for the meeting on October 22nd.

Individuals must register by sending an email to usoge@oge.gov. The email should include “Legal Expense Fund Public Meeting” in the subject line and include the name of the attendee(s) and the preferred date of attendance.

Written Comments: To submit a written comment to OGE, please email usoge@oge.gov, send a fax to: (202) 482-9237, or submit a paper copy to: Office of Government Ethics, Suite 500, 1201 New York Avenue NW, Washington, DC 20005-3917 by close of business on the date listed in the DATES section of this notice. Individuals must include OGE's agency name and the words “Legal Expense Fund Regulation” in all written comments. All written comments, including attachments and other supporting materials, will become part of the public record and be subject to public disclosure. Written comments may be posted on OGE's website, www.oge.gov. Sensitive personal information, such as account numbers or Social Security numbers, should not be included. Written comments generally will not be edited to remove any identifying or contact information

Approved: September 18, 2019.
Emory Rounds,
Director, U.S. Office of Government Ethics.

[FR Doc. 2019-20489 Filed 9-25-19; 8:45 am]

BILLING CODE 6345-03-P